DEPARTMENT OF ENERGY

Federal Energy Regulatory Commission

[Docket No. EG01-127-000, et al.]

PPL Martins Creek, LLC, et al.; Electric Rate and Corporate Filings

August 15, 2003.

The following filings have been made with the Commission. The filings are listed in ascending order within each docket classification.

1. PPL Martins Creek, LLC

[Docket No. EG01-127-000]

Take notice that on August 8, 2003, PPL Martins Creek, LLC (PPL Martins Creek) tendered for filing an Amended Application for Redetermination of Status as an Exempt Wholesale Generator.

PPL Martins Creek states it has served copies of its Application on the parties listed on the Commission=s official service list for this proceeding and on the Pennsylvania Public Utility Commission and the Securities and Exchange Commission.

Comment Date: September 5, 2003.

2. Green Field Wind Farm, L.L.C.

[Docket No. EG03-90-000]

Take notice that on August 12, 2003, Green Field Wind Farm, L.L.C. (the Applicant), with its principal office at 3001 Broadway Street, NE., Suit 695, Minneapolis, MN 55413, filed with the Federal Energy Regulatory Commission (the Commission) an application for determination of exempt wholesale generator status pursuant to part 365 of the Commission's regulations.

Applicant states that it is a Minnesota limited liability company engaged directly and exclusively in the business of owning and operating an approximately 80 MW wind-powered generation facility located in Eastern Wisconsin. Applicant further states that electric energy produced by the facility will be sold exclusively at wholesale.

Comment Date: September 5, 2003.

3. Blue Sky Wind Farm, LLC

[Docket No. EG03-91-000]

Take notice that on August 11, 2003, Blue Sky Wind Farm, LLC (the Applicant), with its principal office at 3001 Broadway Street NE., Suite 695, Minneapolis, MN 55413, filed with the Federal Energy Regulatory Commission (the Commission) an application for determination of exempt wholesale generator status pursuant to part 365 of the Commission's regulations.

Applicant states that it is a Minnesota limited liability company engaged directly and exclusively in the business of owning and operating an approximately 80 MW wind-powered generation facility located in Eastern Wisconsin. Applicant also states that the electric energy produced by the facility will be sold exclusively at wholesale.

Comment Date: September 5, 2003.

4. NRG Energy Center Dover LLC, NEO Freehold “Gen LLC, NEO Chester-Gen LLC

[Docket No. ER00-3160-001]

Take notice that on August 12, 2003, NRG Energy Center Dover, NEO Freehold-Gen LLC and NEO Chester-Gen LLC tendered for filing their triennial review in compliance with the Commission's Order issued August 9, 200, in NRG Energy Center Dover LLC, Docket No. ER00-3160-000.

Comment Date: September 3, 2003.

5. Sithe Energy Marketing L.P., Sithe/Independence Power Partners, L.P., AG-Energy, L.P., Power City Partners, L.P., Seneca Power Partners, L.P., Sterling, Power Partners, L.P.

[Docket Nos. ER02-2202-002, ER03-42-003, ER98-2782-004]

Take notice that on August 11, 2003, Sithe Energy Marketing, L.P., AG-Energy, L.P., Power City Partners, L.P., Seneca Power Partners, L.P., Sterling Power partners, L.P., and Sithe/Independence Power Partners, L.P. (collectively, the Sithe Entities), tendered for filing a notice of change in status pursuant to section 205 of the Federal Power Act with respect to each entity's authority to engage in wholesale sales of capacity, energy and ancillary services at market-based rates. The Sithe Entities state that the change in status involves the indirect transfer of indirect ownership interests in the Sithe Entities from Apollo Energy LLC and subsidiaries of Marubeni Corporation to RCSE, LLC (RCSE), so that Sithe is owned equally by Exelon SHC, Inc., and RCSE

Comment Date: September 2, 2003.

6. Westar Energy, Inc.

[Docket No. ER03-1183-000]

Take notice that on August 8, 2003, Westar Energy, Inc. (Westar) submitted for filing revised sheets for Second Revised Rate Schedule FERC No.264, Electric Transmission and Service Contract between Westar and Kansas Electric Power Cooperative, Inc. (KEPCo) and revised sheets for Original Rate Schedule FERC No.183, Electric Power Transmission and Service Contract between Westar's wholly owned subsidiary, Kansas Gas and Electric Company, Inc. and KEPCo. Westar states that these revised sheets remove points of delivery and add points of interconnection between Westar and KEPCo to accommodate the transaction between Westar and Midwest Energy, Inc. (Midwest) under which Midwest will acquire certain transmission and distribution assets from Westar. Additionally, Westar states that the revised sheets permit KEPCo to apply to the Southwest Power Pool (SPP) to convert existing transmission service to regional network service under SPP's open access transmission tariff.

Westar states that a copy of this filing was served upon the Kansas Corporation Commission and KEPCo.

Comment Date: August 29, 2003.

7. Metropolitan Chicago Healthcare Council

[Docket No. ER03-1185-000]

Take notice that on August 11, 2003, Metropolitan Chicago Healthcare Council tendered for filing a Notice of Cancellation for Market-based Rate Authority in Docket No. 99-3705-000 dated July 22, 1999.

Comment Date: September 2, 2003.

8. Power Access Management

[Docket No. ER03-1186-000]

Take notice that on August 11, 2003, Power Access Management tendered for filing a Notice of Cancellation for Market-based Rate Tariff in Docket No. ER97-1084-000 dated January 2, 1997. Access Management states that the company is no longer in business and has not entered into any contracts to sell power.

Comment Date: September 2, 2003.

9. Midwest Generation, LLC

[Docket No. ER03-1187-000]

Take notice that on August 11, 2003, Midwest Generation, LLC (Midwest) tendered for filing Midwest's FERC Electric Tariff, Original Volume No. 2. Midwest states that this is a rate schedule designating compensation to be paid by Commonwealth Edison Company for black start service provided from certain designated Midwest generating facilities.

Comment Date: September 2, 2003.

10. NorthWestern Energy

[Docket No.ER03-1188-000]

Take notice that on August 11, 2003, NorthWestern Energy, a division of NorthWestern Corporation (NorthWestern), tendered for filing a Notice of Cancellation pursuant to 18 CFR 35.15, to reflect cancellation of FERC Electric Rate Schedule No. 17, which is the Upper Mississippi Valley Power Pool Agreement which was superseded by the Mid-Continent Area Power Pool Agreement (NorthWestern's Rate Schedule 29) in 1972.

Comment Date: September 2, 2003.

11. NorthWestern Energy

[Docket No. ER03-1189-000]

Take notice that on August 11, 2003, NorthWestern Energy, a division of NorthWestern Corporation (NorthWestern), tendered for filing a Notice of Cancellation pursuant to 18.CFR 35.15, to reflect cancellation of FERC Electric Rate Schedule No. 25, which is an electric power wheeling agreement between NorthWestern and Rushmore Gas & Transmission Company that was superseded by NorthWestern's FERC Electric Rate Schedule No. 33.

Comment Date: September 2, 2003.

12. NorthWestern Energy

[Docket No. ER03-1190-000]

Take notice that on August 11, 2003, NorthWestern Energy, a division of NorthWestern Corporation (NorthWestern), tendered for filing a Notice of Cancellation pursuant to 18 CFR 35.15, to reflect cancellation of FERC Electric Rate Schedule No. 26, which is an electric power wheeling agreement between NorthWestern and the State of South Dakota on behalf of Southern State College, Springfield, South Dakota and Northern State College, Aberdeen, South Dakota. NorthWest states that the service originally provided under FERC Electric Rate Schedule No. 26 is now being provided under NorthWestern's Service Agreement No. 15, which was executed pursuant to NorthWestern's Open Access Transmission Tariff and accepted by the Commission on June 4, 2001.

Comment Date: September 2, 2003.

13. NorthWestern Energy

[Docket No. ER03-1191-000]

Take notice that on August 11, 2003, NorthWestern Energy, a division of NorthWestern Corporation (NorthWestern), tendered for filing a Notice of Cancellation pursuant to 18 CFR 35.15, to reflect cancellation of FERC Electric Rate Schedule No. 27, which is an electric power wheeling agreement between NorthWestern and the State of South Dakota on behalf of Southern State College, Springfield, South Dakota. The service originally provided under FERC Electric Rate Schedule No. 27 is now being provided under NorthWestern's Service Agreement No. 14, which was executed pursuant to NorthWestern's Open Access Transmission Tariff and accepted by the Commission on June 4, 2001.

Comment Date: September 2, 2003.

14. NorthWestern Energy

[Docket No. ER03-1192-000]

Take notice that on August 11, 2003, NorthWestern Energy, a division of NorthWestern Corporation (NorthWestern), tendered for filing a Notice of Cancellation pursuant to 18 CFR 35.15, to reflect cancellation of FERC Electric Rate Schedule No. 28, which is an electric power wheeling agreement between NorthWestern and the City of Groton, South Dakota. The service originally provided under FERC Electric Rate Schedule No. 28 is now being provided under NorthWestern's Service Agreement No. 11, which was executed pursuant to NorthWestern's Open Access Transmission Tariff and accepted by the Commission on June 4, 2001.

Comment Date: September 2, 2003.

15. NorthWestern Energy

[Docket No. ER03-1193-000]

Take notice that on August 11, 2003, NorthWestern Energy, a division of NorthWestern Corporation (NorthWestern), tendered for filing a Notice of Cancellation pursuant to 18 CFR 35.15, to reflect cancellation of FERC Electric Rate Schedule No.32, which is a firm power sales agreement for the winter seasons 1990 through 1993 between NorthWestern and Minnesota Power & Light that expired by its terms on April 30, 1993.

Comment Date: September 2, 2003.

16. NorthWestern Energy

[Docket No. ER03-1194-000]

Take notice that on August 11, 2003, NorthWestern Energy, division of NorthWestern Corporation (NorthWestern), tendered for filing a Notice of Cancellation pursuant to 18 CFR 35.15, to reflect cancellation of FERC Electric Rate Schedule No. 35, which is an interconnection agreement between NorthWestern and Western Area Power Administration that expired by its terms on December 31, 2000.

Comment Date: September 2, 2003.

17. NorthWestern Energy

[Docket No. ER03-1195-000]

Take notice that on August 11, 2003, NorthWestern Energy, a division of NorthWestern Corporation (NorthWestern), tendered for filing a Notice of Cancellation pursuant to 18 CFR 35.15, to reflect cancellation of the Non-Firm Point to Point Transmission Service Agreement between NorthWestern and Tenaska Power Services Company The non-firm transmission service agreement is a conforming agreement under NorthWestern's Open Access Transmission Tariff. The agreement was executed November 25, 1997; however, NorthWestern has never provided any service pursuant to that agreement.

Comment Date: September 2, 2003.

18. Georgia Power Company

[Docket No. ER03-1197-000]

Take notice that on August 12, 2003, Southern Company Services, Inc., on behalf of Georgia Power Company, filed revisions to the Interchange Contract dated July 1, 1980 between Georgia Power Company and Crisp County Power Commission (Georgia Power Company's First Revised Rate Schedule FERC No. 803). Southern Company Services, Inc., states that this revision is made pursuant to a bilateral amendment to the Interchange Contract. Southern Company Services, Inc. requests that the revisions to the Interchange Contract be given an effective date of August 12, 2003.

Comment Date: September 3, 2002.

19. Southern Company Services, Inc.

[Docket No. ER03-1198-000]

Take notice that on August 12, 2003, Southern Company Services, Inc. (SCS), acting on behalf of Alabama Power Company, Georgia Power Company, Gulf Power Company, Mississippi Power Company, and Savannah Electric and Power Company (collectively Southern Companies), filed a Notice of Cancellation of Service Schedule A of the Interchange Contract dated February 27, 1981 between Jacksonville Electric Authority and Southern Companies. This Interchange contract is (Southern Operating Companies' First Revised Rate Schedule FERC No. 53). SCS states that this cancellation was made pursuant to a bilateral amendment to the Interchange Contract.

Comment Date: September 3, 2003.

20. Southern Company Services, Inc.

[Docket No. ER03-1199-000]

Take notice that on August 12, 2003, Southern Company Services, Inc. (SCS), acting on behalf of Alabama Power Company, Georgia Power Company, Gulf Power Company, Mississippi Power Company, and Savannah Electric and Power Company (collectively Southern Companies), filed a Notice of Cancellation of Service Schedule A of the Restated Interchange Contract dated June 30, 1991, between Cajun Electric Power Cooperative, Inc. and Southern Companies. This Interchange Contact is (Southern Operating Companies' First Revised Rate Schedule FERC No. 76. SCS states that this cancellation was made pursuant to a bilateral amendment to the Interchange Contract.

Comment Date: September 3, 2003.

21. Southern Company Services, Inc.

[Docket No.ER03-1200-000]

Take notice that on August 12, 2003, Southern Company Services, Inc. (SCS), acting on behalf of Alabama Power Company, Georgia Power Company, Gulf Power Company, Mississippi Power Company, and Savannah Electric and Power Company (collectively Southern Companies), filed an amendment to the Interchange Contract dated August 7, 1981 between South Carolina Public Service Authority and Southern Companies. This Interchange Contract is Southern Operating Companies' First Revised Rate Schedule FERC No. 51. SCS states that this revision is made pursuant to a bilateral amendment to the Interchange Contract. Southern Companies request that the revisions to the Interchange Contract be effective on July 30, 2003.

Comment Date: September 3, 2003.

22. Monongahela Power Company

[Docket No. ER03-1201-000]

Take notice that on August 12, 2003, Monongahela Power Company (Monongahela), tendered for filing pursuant to Commission's regulations 18 CFR 35.15, a Notice of Cancellation of Monongahela's Rate Schedule FERC No. 28, consisting of a Power Delivery Agreement (Agreement) dated January 1, 1968 among Monongahela, Buckeye Power Inc., The Cincinnati Gas & Electric Company, Columbus and Southern Ohio Electric Company, The Dayton Power and Light Company, Ohio Power Company and The Toledo Edison Company. Monongahela states that the Agreement terminated by its own terms effective June 20, 2003, and Monongahela request an effective date of June 20, 2003 for the cancellation and waiver of the Commission's regulations.

Monongahela states that a copy of this filing has been served on Buckeye Power Inc., the Public Utilities Commission of Ohio, American Electric Power Service Corporation on behalf of Ohio Power Company and Columbus and Southern Power Company (now Columbus Southern), FirstEnergy Service Corporation on behalf of The Toledo Edison Company, The Cincinnati Gas & Electric Company and The Dayton Power and Light Company.

Comment Date: September 3, 2003.

23. NEPA Energy LP

[Docket No. ER03-1203-000]

Take notice that on August 12, 2003, NEPA Energy LP (NEPA) tendered for filing a Notice of Cancellation of its FERC Electric Tariff, Original Volume No. 1 pursuant to Section 35.15 of the Federal Energy Regulatory Commission=s (Commission) regulations, 18 CFR 35.15. FERC Electric Tariff, Original Volume No. 1 was filed with the Commission in Docket No. ER00-2316-000 on June 13, 2000.

NEPA requests an effective date of August 1, 2003 for the cancellation. NEPA states it has no customers under this tariff.

Comment Date: September 3, 2003.

24. Virginia Electric and Power Company

[Docket No. ER03-1204-000]

Take notice that on August 12, 2003, Virginia Electric and Power Company (Dominion Virginia Power) tendered for filing an executed Generator Interconnection and Operating Agreement (Interconnection Agreement) between Dominion Virginia Power and Fauquier Landfill Gas, L.L.C. (Fauquier). Dominion Virginia Power states that the Interconnection Agreement sets forth the terms and conditions governing the interconnection between Fauquier's generating facility, located in Fauquier County, Virginia, and Dominion Virginia Power's transmission system.

Dominion Virginia Power requests that the Commission accept this filing to make the Interconnection Agreement effective on August 13, 2003, the day after the filing. Dominion Virginia Power states that copies of the filing were served upon Fauquier and the Virginia State Corporation Commission.

Comment Date: September 3, 2003.

25. DTE East China, LLC

[Docket No. ER03-1206-000] DTE Energy Trading, Inc.

Take notice that on August 12, 2003, DTE East China, LLC (DTE East China) and DTE Energy Trading, Inc. (DTE Energy Trading) submitted for filing, pursuant to Section 205 of the Federal Power Act, and part 35 of the Commission's regulations, a revision to the cost-based ceiling applicable, respectively, to DTE East China's sales and DTE Energy Trading's re-sales of electric capacity and energy from the electric generating facilities owned and operated by DTE East China.

Comment Date: September 3, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-22351 Filed 8-29-03; 8:45 am]

BILLING CODE 6717-01-P